DEPARTMENT OF AGRICULTURE

Rural Business-Cooperative Service

Bioenergy Program for Advanced Biofuels

AGENCY: Rural Business-Cooperative Service (RBS), USDA.

ACTION: Notice of Contract for Proposal (NOCP); additional payment for advanced biofuel produced from October 1, 2008 through September 30, 2009.

SUMMARY: RBS is announcing additional payments to advanced biofuel producers determined eligible in Fiscal Year 2009 for the Bioenergy Program for Advanced Biofuels under criteria established in the prior NOCP, which was published in this publication on June 12, 2009 (74 FR 27998). All payments will be made based upon the terms and conditions provided in the prior NOCP. This NOCP announces the availability of the remaining Fiscal Year 2009 funds that were not distributed under the previous NOCP, which authorized $30 million for Fiscal Year 2009.

DATES: Submission of requests to be considered for additional payments for this program must be received by May 30, 2010.

ADDRESSES: Written requests for an additional payment must be sent to the USDA, Rural Development State Office, Renewable Energy Coordinator in the State in which the producer's principal office is located. The previous NOCP contains the Renewable Energy Coordinator contact information.

FOR FURTHER INFORMATION CONTACT: For further information on this payment program, please contact USDA, Rural Development-Energy Division, Program Branch, Attention: Diane Berger, 1400 Independence Avenue, SW., Stop 3225, Washington, DC 20250-3225. Telephone: 202-720-1400.

SUPPLEMENTARY INFORMATION: On June 12, 2009, RBS published a Notice of Contract Proposals (NOCP) and Solicitation of Applications in the Federal Register announcing policy and application procedures for the Bioenergy Program for Advanced Biofuels. In response to the previously published NOCP, approximately $14.5 million in contracts between the U.S. Department of Agriculture and producers of advanced biofuels were executed.

This NOCP announces the availability of the remaining Fiscal Year 2009 funding to support the Production of Advanced Biofuels under the terms of eligibility of the previous NOCP. This program is authorized under Title IX, Section 9001, of the Food, Conservation, and Energy Act of 2008 (Pub. L. 110-234). Subject to the conditions identified in this NOCP, requests for additional payments will be evaluated, and executed based upon the terms and conditions outlined in the prior NOCP. The Agency will authorize the use of the remaining fiscal year 2009 funds for the additional payments. Funds will be deposited directly into the producer's account.

The payments being made under this NOCP are one-time payments to distribute remaining FY 2009 funds.

Request for Additional Payment and Submission Information

Only advanced biofuels producers determined eligible under the FY 2009 NOCP can submit a request for an additional payment. Payment rate will be determined on the actual amount of BTUs produced from eligible Advanced Biofuels produced in FY 2009 and the number of producers who request additional payments under this NOCP.

1. If an eligible producer received a payment in FY 2009, a written request must be submitted to the appropriate USDA, Rural Development Renewable Energy Coordinator. The request must acknowledge this is an additional one-time payment for the actual amount produced in FY 2009.

2. If an eligible producer had a valid executed contract, but did not submit a request for payment for the advanced biofuel produced in FY 2009, the request must include:

• Form RD 9005-3, “Advanced Biofuel Program Payment Application,” for FY 2009 production;

• Documentation verifying the actual amount of advanced biofuel produced in FY 2009; and

• SF-3881, “Electronic Funds Transfer Payment Enrollment Form.”

Additional documentation and access to same may be required if the producer's submittal is not sufficient to verify eligibility for payment or quantity of the Advanced Biofuel product.

3. If a producer was determined eligible, but did not execute a contract, the request must include:

• Form RD 9005-2, “Advanced Biofuel Payment Program Contract;”

• Form RD 9005-3, “Advanced Biofuel Program Payment Application,” for FY 2009 production;

• Documentation verifying the actual amount of advanced biofuel produced in FY 2009; and

• SF-3881, “Electronic Funds Transfer Payment Enrollment Form.”

Additional documentation and access to same may be required if the producer's submittal is not sufficient to verify eligibility for payment or quantity of the Advanced Biofuel product.

Paperwork Reduction Act

In accordance with the Paperwork Reduction Act, the paperwork burden associated with this Notice of Contract for Proposal (NOCP) has been approved by the Office of Management and Budget (OMB) under OMB Control Number 0570-0057.

The PRA burden associated with the original NOCP, published on June 12, 2009, was approved by OMB under emergency conditions, with an opportunity to comment on the burden associated with the program, and was intended to be a one-time approval. Since the publication of the original NOCP, the Agency did not allocate all of the FY 2009 authorized funds because actual production did not meet the estimated production used to determine payment rates. Therefore, the Agency is seeking to make additional payments to eligible Advanced Biofuel Producers from remaining fiscal year 2009 funds.

Under this NOCP, the Agency is providing additional payments to producers of advanced biofuels determined by the Agency to be eligible for the program in order to further support the production of advanced biofuels. To obtain these additional payments, producers who signed a contract (Form RD 9005-2) and submitted a payment request (Form RD 9005-3) must acknowledge that receiving payment from the remaining fiscal year 2009 funds is a one-time payment. Producers who signed a contract, but did not submit a payment request, must submit a payment request form, including documentation verifying the actual amount of advanced biofuel produced in fiscal year 2009, and an electronic funds transfer payment enrollment form (SF-3881). Producers determined by the Agency to be eligible, but who did not sign a contract with the Agency, must submit the contract form, a payment request form, including documentation verifying the actual amount of advanced biofuel produced in fiscal year 2009, and an electronic funds transfer payment enrollment form. The collection of this information is necessary to ensure that appropriate payments are made to eligible producers of Advanced Biofuels.

All of the forms, information, certifications, and agreements required to apply for these additional payments under this NOCP have been authorized under OMB Control Number 0570-0057. Since the emergency approval of the original NOCP for this program, the Agency has resubmitted the PRA package to OMB and received regular approval. Applications and accompanying materials required under this NOCP will be covered under the regular PRA package.

Nondiscrimination Statement

USDA prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: March 8, 2010.
Judith A. Canales,
Administrator, Rural Business-Cooperative Service.

[FR Doc. 2010-5374 Filed 3-11-10; 8:45 am]

BILLING CODE 3410-XY-P